DEPARTMENT OF COMMERCE

Bureau of Industry and Security

15 CFR Part 744

[Docket No. 240405-0101]

RIN 0694-AJ57

Addition of Entities to and Revision of Entry on the Entity List

AGENCY: Bureau of Industry and Security, Department of Commerce.

ACTION: Final rule.

SUMMARY: In this rule, the Bureau of Industry and Security (BIS) amends the Export Administration Regulations (EAR) by adding 11 entries to the Entity List, under the destinations of the Peoples Republic of China (China) (6), the Russian Federation (Russia) (3), and the United Arab Emirates (UAE) (2). These entities have been determined by the U.S. Government to be acting contrary to the national security or foreign policy interests of the United States. This rule also modifies one existing entity on the Entity List under the destination of China.

DATES: This rule is effective April 11, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List

The Entity List (Supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b) of the EAR. The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Khalaj Trading LLC and Mahdi Khalaj Amirhosseini, both under the destination of the UAE to the Entity List for engaging in the export and attempted export of items on the Commerce Control List (Supplement 1 to part 774 of the EAR) from the United States to Iran through the UAE, in apparent violation of the Iranian Transactions and Sanctions Regulations (ITSR) (see 31 CFR part 560) and the EAR. These activities are contrary to the national security and foreign policy interests of the United States under § 744.11 of the EAR.

The ERC determined to add LINKZOL (Beijing) Technology Co., Ltd. and Xi'an Like Innovative Information Technology Co., Ltd., both under the destination of China, to the Entity List for acquiring and attempting to acquire U.S.-origin items in support of China's military modernization efforts, including in support of Military-Intelligence End Users. The ERC also determined to add Beijing Anwise Technology Co., Ltd. and SITONHOLY (Tianjin) Co., Ltd., both under the destination of China, to the Entity List for acquiring and attempting to acquire U.S.-origin items in support of China's military modernization efforts. These activities are contrary to U.S. national security and foreign policy interests under § 744.11 of the EAR.

The ERC determined to add Jiangxi Xintuo Enterprise Co. Ltd., under the destination of China, to the Entity List for supporting Russia's military through the procurement, development, and proliferation of Russian unmanned aerial vehicles (UAVs). This activity is contrary to the national security and foreign policy interests of the United States under § 744.11. In addition, this entity qualifies as a military end user under § 744.21(g) of the EAR. This entity is receiving a footnote 3 designation because the ERC has determined that it is a Russian or Belarusian `military end user' pursuant to § 744.21 of the EAR. A footnote 3 designation subjects this entity to the Russia/Belarus-Military End User Foreign Direct Product (FDP) rule, detailed in § 734.9(g) of the EAR. The entity is added with a license requirement for all items subject to the EAR and a license review policy of denial for all items subject to the EAR apart from food and medicine designated as EAR99, which will be reviewed on a case-by-case basis.

The ERC determined to add to the Entity List Aerosila JSC SPE, Delta-Aero LLC, and JSC ODK-Star, under the destination of Russia, and Shenzhen Jiasibo Technology Co., Ltd., under the destination of China, for working as a part of a network to procure aerospace components, including dual-use components for UAV applications, for the Iran Aircraft Manufacturing Industrial Company (HESA) in Iran. These components are used to develop and produce Shahed-series UAVs which have been used by Iran to attack oil tankers in the Middle East and by Russia in Ukraine. This activity is contrary to the national security and foreign policy interests of the United States under § 744.11 and these entities qualify as military end users under § 744.21(g) of the EAR. These entities are receiving a footnote 3 designation because the ERC has determined that they are Russian or Belarusian `military end users' pursuant to § 744.21 and are subject to the Russia/Belarus-Military End User Foreign Direct Product (FDP) rule, detailed in § 734.9(g) of the EAR. The entities are added with a license requirement for all items subject to the EAR and a license review policy of denial for all items subject to the EAR apart from food and medicine designated as EAR99, which will be reviewed on a case-by-case basis.

For the reasons described above, this final rule adds the following 11 entities, including aliases where appropriate, to the Entity List:

China

• Beijing Anwise Technology Co., Ltd.;

• Jiangxi Xintuo Enterprise Co., Ltd.;

• LINKZOL (Beijing) Technology Co., Ltd.;

• Shenzhen Jiasibo Technology Co., Ltd.;

• SITONHOLY (Tianjin) Co., Ltd.; and

• Xi'an Like Innovative Information Technology Co., Ltd.

Russia

• Aerosila JSC SPE;

• Delta-Aero LLC; and

• JSC ODK-Star.

United Arab Emirates

• Khalaj Trading LLC; and

• Mahdi Khalaj Amirhosseini.

Modifications to the Entity List

This final rule implements the decision of the ERC to modify one existing entry on the Entity List under the destination of China. Specifically, the ERC determined to add one alias to the entry for Shanghai Biren Intelligent Technology Co., Ltd., for a total of three aliases.

Savings Clause

For the changes being made in this final rule, shipments of items removed from eligibility for a License Exception or export, reexport, or transfer (in-country) without a license (NLR) as a result of this regulatory action that were en route aboard a carrier to a port of export, reexport, or transfer (in-country), on April 11, 2024, pursuant to actual orders for export, reexport, or transfer (in-country) to or within a foreign destination, may proceed to that destination under the previous eligibility for a License Exception or export, reexport, or transfer (in-country) without a license (NLR) before May 13, 2024. Any such items not actually exported, reexported or transferred (in-country) before midnight, on May 13, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement no. 4 is amended by:

a. Under CHINA, PEOPLE'S REPUBLIC OF,

i. Adding, in alphabetical order, entries for “Beijing Anwise Technology Co., Ltd.;” “Jiangxi Xintuo Enterprise Co., Ltd.;” “LINKZOL (Beijing) Technology Co., Ltd.;” and

ii. Revising the entry for “Shanghai Biren Intelligent Technology Co., Ltd.;” and

iii. Adding, in alphabetical order, entries for “Shenzhen Jiasibo Technology Co., Ltd.;” “SITONHOLY (Tianjin) Co., Ltd.;” and “Xi'an Like Innovative Information Technology Co., Ltd.;” and

b. Under RUSSIA, adding entries in alphabetical order for “Aerosila JSC SPE;” “Delta-Aero LLC;” and “JSC ODK-Star;” and

c. Under UNITED ARAB EMIRATES, adding entries in alphabetical order for “Khalaj Trading LLC;” and “Mahdi Khalaj Amirhosseini.”

The revision and additions read as follows:

Supplement No. 4 to Part 744—Entity List

* * * * *

Country | Entity | License requirement | License review policy | Federal Register citation
* * * * * * *
CHINA, PEOPLES REPUBLIC OF | * * * * * *
| Beijing Anwise Technology Co., Ltd., a.k.a., the following one alias: —Anwise Global. | For all items subject to the EAR. (See § 744.11 of the EAR) | Presumption of denial | 89 FR [INSERT FR PAGE NUMBER], 4/11/2024.
| A02, Idea Park, MingJi International Center, No. 35 Da Huang Zhuang, Chao Yang District, Beijing, China; and Room 8112, 8th Floor, Building 3, Yard 30, Shixing Street, Shijingshan District, Beijing, China.
| * * * * * *
| Jiangxi Xintuo Enterprise Co. Ltd., a.k.a., the following one alias: —T-MOTOR. Room 2103, No. 39 Commercial Building, Greenland New Metropolis, Ziyang, Avenue, High-tech Industrial Development Zone, Nanchang City, Jiangxi Province, China; and Rooms 2405, 2406, 2407, 24th Floor, B# Office Building, Yunzhongcheng, No. 3399 Ziyang Avenue, Nanchang High-tech Industrial Development Zone, Nanchang City, Jiangxi Province, China; and No. 888 Tianxiang Avenue, Nanchang City, Jiangxi Province, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 4/11/2024.
| * * * * * *
| LINKZOL (Beijing) Technology Co., Ltd., a.k.a., the following one alias: —Lianzhong Cluster (Beijing) Technology Co., Ltd. | For all items subject to the EAR. (See § 744.11 of the EAR) | Presumption of denial | 89 FR [INSERT FR PAGE NUMBER], 4/11/2024.
| Room 701, Floor 7, Building 6, No. 1 Chaoqian Road, Science and Technology Park, Changping District, Beijing, China; and Floor 6, Building 6, Beijing Enterprises Hongchuang Technology Park, No. 1 Chaoqian Road, Science and Technology Park, Changping District, Beijing (Changping Department), China; and E-1201, Wuhan Living Room, No. 8 Hongtu Avenue, Dongxihu District, Wuhan, Hubei (Wuhan Department), China; and C-2701, Wuhan Living Room, No. 8 Hongtu Avenue, Dongxihu District, Wuhan, Hubei (Wuhan Department), China; and Room 941, Building 1, Yard 62, Balizhuang, Haidian District, Beijing (Haidian Department), China.
| * * * * * *
| Shanghai Biren Intelligent Technology Co., Ltd., a.k.a., the following three aliases: —Biren; —Biren Technology; and —Shanghai Biren Technology. | For all items subject to the EAR. (See §§ 734.9(e)(2) and 744.11 of the EAR) ⁴ | Presumption of denial | 88 FR 71992 10/19/2023. 89 FR [INSERT FR PAGE NUMBER], 4/11/2024.
| Building 16, Room 1302, 13th Floor, No. 2388 Chenhang Highway, Minhang District, Shanghai, China.
| * * * * * *
| Shenzhen Jiasibo Technology Co., Ltd., a.k.a., the following one alias: —SHENZHEN JIA SIBO SCIENCE AND TECHNOLOGY CO., LTD. No. 57, Busha Road, Buji, Longgang, Shenzhen, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 4/11/2024.
| * * * * * *
| SITONHOLY (Tianjin) Co., Ltd., No. 1 Cuipu Road, Yixian Science Industrial Park, Tianjin Economic and Technological Development Zone, Tianjin, China. | For all items subject to the EAR. (See § 744.11 of the EAR) | Presumption of denial | 89 FR [INSERT FR PAGE NUMBER], 4/11/2024.
| * * * * * *
| Xi'an Like Innovative Information Technology Co., Ltd., Floor 12, Building 1, Greenland Lehe City, South Second Ring Road, Beilin District, Xi'an City, Shaanxi Province, China; and Room 2914, Building 1, No. 323, East Section of Second Ring South Road, Beilin District, Xi'an City, Shaanxi Province, China. | For all items subject to the EAR. (See § 744.11 of the EAR) | Presumption of denial | 89 FR [INSERT FR PAGE NUMBER], 4/11/2024.
| * * * * * *
RUSSIA | * * * * * *
| Aerosila JSC SPE, a.k.a., the following three aliases: —JSC SPE AEROSILA; —NPP AEROSILA, AO; and -NPP AEROSILA, PPO. 6, Zhdanov St., Stupino, Moscow Region, 142800, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 4/11/2024.
| * * * * * *
| Delta-Aero LLC, a.k.a., the following two aliases: —LLC TSTO “Delta-Aero”; and —DELTA-AERO TECHNICAL SERVICE CENTER LLC. 4, Kyiv Highway 22 km, Building 1, Floor 6, Room 620 A/37, Moscow, 108511, Russia; and 68/70 Butyrsky Val Street, 1st Floor, Room 110, Baker Plaza Business Center, Moscow, 127055, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 4/11/2024.
| * * * * * *
| JSC ODK-Star, a.k.a., the following two aliases: —JSC “UEC-STAR”; and —AO ODK-STAR. 140A, Kuibysheva Street, Perm, 614990, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER], 4/11/2024.
| * * * * * *
UNITED ARAB EMIRATES | * * * * * *
| Khalaj Trading LLC, 2604 Tower A, Bin Ham Towers, Altaawun St., Sharjah, U.A.E.; and #4 Street # 6-A, Karama Area, Bur Dubai, Dubai, U.A.E. | For all items subject to the EAR (See § 744.11 of the EAR) | Presumption of denial | 89 FR [INSERT FR PAGE NUMBER], 4/11/2024.
| * * * * * *
| Mahdi Khalaj Amirhosseini, 2604 Tower A, Bin Ham Towers, Altaawun St., Sharjah, U.A.E.; and #4 Street # 6-A, Karama Area, Bur Dubai, Dubai, U.A.E. | For all items subject to the EAR (See § 744.11 of the EAR) | Presumption of denial | 89 FR [INSERT FR PAGE NUMBER], 4/11/2024.
| * * * * * *
* * * * * * *
³ For this entity, “items subject to the EAR” includes foreign-produced items that are subject to the EAR under § 734.9(g) of the EAR. See §§ 746.8 and 744.21 of the EAR for related license requirements, license review policy, and restrictions on license exceptions.
⁴ For this entity, “items subject to the EAR” includes foreign-produced items that are subject to the EAR under § 734.9(e)(2) of the EAR. See § 744.11(a)(2)(ii) for related license requirements and license review policy.

Thea D. Rozman Kendler,
Assistant Secretary for Export Administration.

[FR Doc. 2024-07760 Filed 4-10-24; 8:45 am]

BILLING CODE 3510-33-P